DEPARTMENT OF ENERGY

Federal Energy Regulatory Commission

[Project No. 2839-015]

Village of Lyndonville Electric Department; Notice of Technical Meeting

a. Date and Time of Meeting: February 21, 2018 at 9:00 a.m. Eastern Standard Time.

b. Place: Telephone conference.

c. FERC Contact: Bill Connelly at william.connelly@ferc.gov, or (202) 502-8587.

d. Purpose of Meeting: Commission Staff is hosting a technical meeting to discuss the findings of the Village of Lyndonville Electric Department's Archeological Resource Assessment and Historic Properties Assessment filed on August 25, 2017 and the concerns about the Project Area of Potential Effect (APE) expressed by the State of Vermont, Division for Historic Preservation, filed October 30, 2017.

e. A summary of the meeting will be prepared and filed in the Commission's public file for the project.

f. All local, state, and federal agencies, Indian tribes, and other interested parties are invited to participate by phone. Please call Bill Connelly at (202) 502-8587 by February 20, 2018, to RSVP and to receive specific instructions on how to participate.

Dated: February 6, 2018.
Kimberly D. Bose,
Secretary.

[FR Doc. 2018-02783 Filed 2-9-18; 8:45 am]

BILLING CODE 6717-01-P